DEPARTMENT OF TRANSPORTATION

Federal Highway Administration

Tier 1 Environmental Impact Statement: Lafayette Parish, LA

AGENCY: Federal Highway Administration (FHWA), DOT.

ACTION: Notice of intent amendment.

SUMMARY: The FHWA is issuing this notice to advise the public that the December 16, 2005 Notice of Intent for the subject Tier 1 Environmental Impact Statement is amended to: (1) change the name of the proposed project from the Lafayette Metropolitan Expressway to the Lafayette Regional Xpressway (LRX) and (2) add the Louisiana Department of Transportation and Development (DOTD) as a Joint Lead Agency.

FOR FURTHER INFORMATION CONTACT: Mr. Carl M. Highsmith, Project Delivery Team Leader, Federal Highway Administration, 5304 Flanders Drive, Suite A, Baton Rouge, Louisiana 70808, Telephone: (225) 757-7615, or Mr. Michael Mangham, Commission Chairperson, Lafayette Metropolitan Expressway Commission, 406 Audubon Boulevard, Lafayette, Louisiana 70503, Telephone: (337) 233-6200, or Ms. Noel Ardoin, Environmental Engineer Administrator, Louisiana Department of Transportation and Development, Room 502P, 1201 Capitol Access Road, Post Office Box 94245, Baton Rouge, Louisiana 70804-9245, Telephone: (225) 242-4502. Project information may be obtained from the project Internet Web site at http://lrxpressway.com.

SUPPLEMENTARY INFORMATION: The Lafayette Metropolitan Expressway Commission (LMEC) changed the name of the proposed project from the Lafayette Metropolitan Expressway to the Lafayette Regional Xpressway (LRX). The name of the project was changed to reflect the regional context and setting of the proposed toll facility.

The Louisiana Department of Transportation and Development agreed to be a Joint Lead Agency for the Lafayette Regional Xpressway Tier 1 Environmental Impact Statement.

(Catalog of Federal Domestic Assistance Program Number 20.205, Highway Research, Planning and Construction. The regulations implementing Executive Order 12372 regarding intergovernmental consultation of Federal programs and activities, apply to this program.)

Authority: 23 U.S.C., 315; 23 CFR 771.123.

Dated: September 30, 2009.
Charles W. Bolinger,
Division Administrator, FHWA, Louisiana Division.

[FR Doc. E9-24218 Filed 10-7-09; 8:45 am]

BILLING CODE P